DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: February 22, 2006.

Location: The Embassy Suites—Old Town Alexandria, 1900 Diagonal Road, Alexandria, VA 22314, (703-684-5900).

Time: Registration will begin at 8:30 a.m. and the meeting is scheduled to adjourn at 12:30 p.m.

Agenda: The Board will consider its project investment priorities for the next fiscal year. The Board will also hear briefings on the status of both the funding for inland navigation projects and studies, and the Inland Waterways Trust Fund.

FOR FURTHER INFORMATION CONTACT: Mr. Mark R. Pointon, Headquarters, U.S. Army Corps of Engineers, CECW-MVD, 441 G Street, NW., Washington, DC 20314-1000; Ph: 202-761-4258.

SUPPLEMENTARY INFORMATION: The meeting is open to the public. Any interested person may attend, appear before, or file statements with the committee at the time and in the manner permitted by the committee.

Brenda S. Bowen,
Army Federal Register Liaison Officer.

[FR Doc. 06-1211 Filed 2-8-06; 8:45 am]

BILLING CODE 3710-92-M